SECURITIES AND EXCHANGE COMMISSION

Sunshine Act Meetings

Notice is hereby given, pursuant to the provisions of the Government in the Sunshine Act, Pub. L. 94-409, that the Securities and Exchange Commission will hold the following meetings during the week of May 23, 2005:

An open meeting will be held on Monday, May 23, 2005, at 10 a.m., in Room 1C30, the William O. Douglas Meeting Room, and a closed meeting will be held on Wednesday, May 25, 2005 at 2 p.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), 9(ii) and (10), permit consideration of the scheduled matters at the closed meeting.

Commissioner Goldschmid, as duty officer, voted to consider the items listed for the closed meeting in closed session, and that no earlier notice thereof was possible.

The subject matter of the open meeting scheduled for Monday, May 23, 2005, will be:

The Commission will hear oral argument on an appeal by Rita J. McConville from the decision of an administrative law judge. The administrative law judge found that McConville, formerly the chief financial officer of Akorn, Inc. (“Akorn”), had significant responsibility for the financial statements in the Form 10-K for the year ended December 31, 2000 (the “2000 Form 10-K”) filed by Akorn, which materially inflated Akorn's accounts receivable, net sales, and assets; caused Akorn to maintain inaccurate books and records; and falsely assured Akorn's auditors that the financial statements in the 2000 Form 10-K complied with Generally Accepted Accounting Principles and that she did not know of any events that would materially impact those financial statements. In so doing, the law judge found, McConville violated Sections 10(b) and 13(b)(5) of the Securities Exchange Act of 1934 and Rules 10b-5, 13b2-1 and 13b2-2 thereunder, and caused Akorn to violate Sections 13(a) and 13(b)(2) of the Exchange Act and Rules 12b-20 and 13a-1 thereunder. The law judge ordered McConville to cease and desist from violating and causing violations of these provisions, and to pay disgorgement in the amount of $115,858, plus prejudgment interest.

Among the issues likely to be argued are:

1. Whether McConville's involvement in the preparation and filing of the 2000 Form 10-K was sufficient to provide a basis for liability;

2. Whether McConville knew that Akorn did not have a system of internal accounting controls for its accounts receivable necessary for the preparation of accurate financial statements and knowingly failed to implement such a system;

3. Whether the Order Instituting Proceedings gave McConville adequate notice of the claims lodged against her and the grounds on which those claims allegedly rested;

4. Whether a cease-and-desist order against McConville is in the public interest; and

5. Whether disgorgement should be ordered, and if so, in what amount.

The subject matter of the closed meeting scheduled for Wednesday, May 25, 2005, will be:

Formal orders of investigations;

Institution and settlement of injunctive actions; and

Institution and settlement of administrative proceedings of an enforcement nature.

At times, changes in Commission priorities require alterations in the scheduling of meeting items.

For further information and to ascertain what, if any, matters have been added, deleted or postponed, please contact: The Office of the Secretary at (202) 942-7070.

Dated: May 17, 2005.
Jonathan G. Katz,
Secretary.

[FR Doc. 05-10173 Filed 5-17-05; 4:20 pm]

BILLING CODE 8010-01-P